DEPARTMENT OF COMMERCE

National Oceanic and Atmospheric Administration

50 CFR Part 622

RIN 0648-AY11

Fisheries of the Caribbean, Gulf of Mexico, and South Atlantic; Snapper-Grouper Fishery off the Southern Atlantic States; Amendment 17B

AGENCY: National Marine Fisheries Service (NMFS), National Oceanic and Atmospheric Administration (NOAA), Commerce.

ACTION: Notice of Availability of Amendment 17B to South Atlantic Snapper-Grouper Fishery Management Plan; request for comments.

SUMMARY: The South Atlantic Fishery Management Council (Council) has submitted Amendment 17B to the Fishery Management Plan for the Snapper-Grouper Fishery of the South Atlantic Region (FMP) for review, approval, and implementation by NMFS. The amendment proposes actions to specify annual catch limits (ACLs), and accountability measures (AMs) for nine snapper-grouper species, eight of which are undergoing overfishing; specify recreational and commercial allocations for golden tilefish; modify management measures to limit total mortality of each species to their respective ACLs; and add ACLs, ACTs, and AMs to the management measures that may be amended via the framework procedure. The actions contained in Amendment 17B are intended to address overfishing of eight snapper-grouper species while maintaining catch levels consistent with achieving optimum yield for all nine species included in the amendment.

DATES: Comments must be received no later than 5 p.m., eastern time, on November 22, 2010.

ADDRESSES: You may submit comments, identified by “0648-AY11”, by any one of the following methods:

• Electronic Submissions: Submit all electronic public comments via the Federal e-Rulemaking Portal http://www.regulations.gov

• Fax: 727-824-5308, Attn: Kate Michie

• Mail: Kate Michie, Southeast Regional Office, NMFS, 263 13th Avenue South, St. Petersburg, FL 33701

Instructions: No comments will be posted for public viewing until after the comment period is over. All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, enter “NOAA-NMFS-2010-0091” in the keyword search, then check the box labeled (Select to find documents accepting comments or submissions(, then select (Send a Comment or Submission.( NMFS will accept anonymous comments (enter N/A in the required fields, if you wish to remain anonymous). Attachments to electronic comments will be accepted in Microsoft Word, Excel, WordPerfect, or Adobe PDF file formats only.

Copies of Amendment 17B may be obtained from the South Atlantic Fishery Management Council, 4055 Faber Place, Suite 201, North Charleston, SC 29405; phone: 843-571-4366 or 866-SAFMC-10 (toll free); fax: 843-769-4520; e-mail: safmc@safmc.net. Amendment 17B includes an Environmental Assessment, an Initial Regulatory Flexibility Analysis, a Regulatory Impact Review, and a Social Impact Assessment/Fishery Impact Statement.

FOR FURTHER INFORMATION CONTACT: Kate Michie, telephone: 727-824-5305; fax: 727-824-5308; e-mail: Kate.Michie@noaa.gov.

SUPPLEMENTARY INFORMATION: The South Atlantic snapper-grouper fishery is managed under the FMP. The FMP was prepared by the Council and implemented by NMFS under the authority of the Magnuson-Stevens Fishery Conservation and Management Act (Magnuson-Stevens Act) by regulations at 50 CFR part 622.

Background

Revisions to the Magnuson-Stevens Act in 2006 require that if a stock or stock complex in an FMP is undergoing overfishing, the FMP must establish by 2010 a mechanism for specifying ACLs at a level that prevents overfishing and does not exceed the fishing level recommendations of the respective Council(s Scientific and Statistical Committee or other established peer review processes. The Magnuson-Stevens Act also requires that NMFS implement measures to ensure accountability to prevent an ACL from being exceeded or correcting for an ACL overage if one should occur. The National Standard 1 Guidelines, published on January 16, 2009 (74 FR 3178), provide guidance for establishing ACLs and AMs in our nation's fisheries.

In the South Atlantic snapper-grouper fishery there are nine species currently undergoing overfishing including: speckled hind, warsaw grouper, snowy grouper, golden tilefish, black sea bass, red grouper, gag, vermilion snapper, and red snapper. Amendment 17B includes actions to establish ACLs and AMs for eight of these species as well as black grouper. Actions to address red snapper overfishing are contained in a separate amendment (Amendment 17A).

An ACL is the level of annual catch of a stock or stock complex that if met or exceeded serves as the basis for triggering an AM. The Magnuson-Stevens Act requires ACLs be set at levels that prevent overfishing from occurring. ACLs may incorporate management and scientific uncertainty, and take into account the amount of data available and level of vulnerability to overfishing for each species. Separate ACLs may be established for each sector of a fishery, i.e., commercial and recreational. However, the combined total of all sector ACLs may not exceed the total ACL for a species or species complex.

Measures to ensure accountability, or AMs, are management controls implemented to either ensure ACLs are not exceeded or correct for an overage once ACLs or ACTs are reached during a fishing season, to reduce the risk that overfishing will occur. Depending on how timely the data are, however, it might not be realized that an ACL and/or ACT has been reached until after a season has ended. In this scenario, an AM would be used in the following fishing season to mitigate any overages that occurred in the prior fishing season. Examples of AMs that would correct or prevent an ACL overage include: prohibiting retention of a species once the sector ACL is met, shortening the length of the subsequent fishing season to account for an overage of the ACL, bag limits, quotas, fishery closure once an ACL is projected to be met, and reducing the ACL in the subsequent fishing season to account for an overage of the ACL.

In addition to specifying ACLs and AMs for nine snapper-grouper species, Amendment 17B would establish commercial and recreational allocations for golden tilefish. The commercial allocation would be set at 97 percent and the recreational allocation at 3 percent, which are 282,819 pounds (gutted weight) and 1,578 fish respectively.

Also included in Amendment 17B are revisions to the current framework procedure for specifying total allowable catch for snapper-grouper species. Modifications to the framework would include allowing adjustments to ACLs and AMs, and allow for the specification and adjustments to ACTs if new scientific information indicates a change is needed. Making adjustments to National Standard 1 harvest parameters (ACLs, ACTs, and AMs) through framework actions via regulatory amendments is less time intensive than doing so through the FMP amendment process. Thus, utilizing updated framework procedures would facilitate timely adjustments when appropriate.

The Council has submitted Amendment 17B for Secretarial review, approval, and implementation. NMFS( decision to approve, partially approve, or disapprove Amendment 17B will be based, in part, on consideration of comments, recommendations, and information received during the comment period on this notice of availability. After consideration of these factors, and consistency with the Magnuson-Stevens Act and other applicable laws, NMFS will publish a notice of agency action in the Federal Register announcing the Agency(s decision to approve, partially approve, or disapprove Amendment 17B, and the associated rationale.

Proposed Rule for Amendment 17B

A proposed rule that would implement measures outlined in Amendment 17B has been received from the Council. In accordance with the Magnuson-Stevens Act, NMFS is evaluating Amendment 17B to determine whether it is consistent with the FMP, the Magnuson-Stevens Act, and other applicable law. If that determination is affirmative, NMFS will publish the proposed rule in the Federal Register for public review and comment.

Consideration of Public Comments

Comments received by November 22, 2010, whether specifically directed to the amendment or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: September 17, 2010.
James P. Burgess,
Acting Director, Office of Sustainable Fisheries, National Marine Fisheries Service.

[FR Doc. 2010-23712 Filed 9-21-10; 8:45 am]

BILLING CODE 3510-22-S